NATIONAL AERONAUTICS AND SPACE ADMINISTRATION

14 CFR Parts 1264 and 1271

RIN 2700-AE30

[Document Number NASA-17-039: Docket Number—NASA-2017-0002]

Implementation of the Federal Civil Penalties Inflation Adjustment Act; Correction

AGENCY: National Aeronautics and Space Administration.

ACTION: Interim final rule with request for public comment; correction.

SUMMARY: The National Aeronautics and Space Administration is correcting an interim final rule that appeared in the Federal Register and became effective on June 26, 2017. The document issued an adjustment to the civil monetary penalties within the Agency's jurisdiction for inflation, as required by the Federal Civil Penalties Inflation Adjustment Act of 1990 (the Inflation Adjustment Act or the Act), as amended by the Debt Collection Improvement Act of 1996 and further amended by the Federal Civil Penalties Inflation Adjustment Act Improvements Act of 2015 (2015 Act). The document inadvertently failed to provide a date and address by which to submit comments.

DATES: Effective July 12, 2017.

FOR FURTHER INFORMATION CONTACT: Nanette J. Smith, 202-358-0819.

Correction

In interim final rule FR Doc. 2017-13209, beginning on page 28760 in the issue of June 26, 2017, make the following corrections:

1. In the DATES section on page 28760 in the 3rd column, add at the end of the first paragraph the following:

“Comment date: Comments must be received by July 26, 2017.”

2. On page 28760, following the DATES section, add an ADDRESSES section to read as follows:

“ADDRESSES: Comments must be identified with RINs 2700-AE03 and may be sent to NASA via the Federal E-Rulemaking Portal: http://www.regulations.gov. Follow the online instructions for submitting comments. Please note that NASA will post all comments on the Internet with changes, including any personal information provided.”

Nanette J. Smith,
NASA Federal Register Liaison Officer.

[FR Doc. 2017-14579 Filed 7-11-17; 8:45 am]

BILLING CODE 7510-13-P